DEPARTMENT OF DEFENSE

Department of the Air Force

[Docket ID: USAF-2025-HQ-0036]

Proposed Collection; Comment Request

AGENCY: Department of the Air Force, Department of Defense (DoD).

ACTION: 60-Day information collection notice.

SUMMARY: In compliance with the Paperwork Reduction Act of 1995, the Air Force Integrated Resilience Directorate announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 23, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Headquarters, United States Air Force (HQ USAF), Integrated Resilience Directorate (A1Z), 1410 Air Force Pentagon, Room 4D950 Washington, DC 20330-1410, ATTN: Dr. Lucas Keefer (lucas.keefer@us.af.mil) or 419-271-2384.

SUPPLEMENTARY INFORMATION:

Title; Associated Form; and OMB Number: Interpersonal and Self-Directed Violence DAF Care Experience Survey; OMB Control Number 0701-ISDV.

Needs and Uses: This information collection is necessary to support the Department of the Air Force's (DAF) goal of assessing and comparing the proven impact of Interpersonal and Self-Directed Violence (ISDV) programs and initiatives with the desired impacts of these programs and initiatives. In the case that the proven impact is not meeting the desired impact, this information collection will also highlight gap areas for focused improvement, and potentially the need to cut or expand certain programs and initiatives. The objective of this information collection is to support the DAF in improving access to education and communication to best serve Airmen and Guardians.

The respondents include all Service Members of the Air Force and Space Force. Airmen and Guardians will voluntarily respond to help the DAF better understand ISDV-related issues. Specifically, they will help the DAF better understand their knowledge, skills, abilities, beliefs, and experiences related to ISDV-related risk and protective factors.

Affected Public: Individuals or households (Airmen and Guardians).

Annual Burden Hours: 1,000.

Number of Respondents: 6,000.

Responses Per Respondent: 1.

Annual Responses: 6,000.

Average Burden Per Response: 10 minutes.

Frequency: Quarterly.

Dated: July 23, 2025.
Aaron T. Siegel,
Alternate OSD Federal Register Liaison Officer, Department of Defense.

[FR Doc. 2025-14073 Filed 7-24-25; 8:45 am]

BILLING CODE 6001-FR-P